DEPARTMENT OF JUSTICE

Notice of Lodging of Proposed Consent Decree Under the Clean Water Act

On March 20, 2023, the Department of Justice lodged a proposed Consent Decree with the United States District Court for the Western District of Arkansas in the lawsuit entitled United States, Louisiana Department of Environmental Quality, State of Maryland, and State of Nevada v. ABF Freight System, Inc., Civil Action No. 2:23-cv-02039-PKH.

This case relates to compliance with Clean Water Act requirements applicable to discharges of stormwater associated with industrial activity from transportation facilities operated by ABF Freight Systems, Inc. (ABF). ABF operates a national network of more than 200 freight terminals spread across the country. The Complaint alleges claims at nine of ABF's freight terminals based on inspections by EPA and state agencies. The proposed Consent Decree would resolve claims at all ABF freight terminals listed in Appendix A of the Consent Decree through the date of lodging. The Consent Decree would also require ABF to pay a civil penalty of $535,000 and implement compliance measures at all freight terminals currently operated nationwide (except in those located in the state of Washington). The states of Louisiana, Maryland, and Nevada are Co-Plaintiffs.

The publication of this notice opens a period for public comment on the Consent Decree. Comments should be addressed to the Assistant Attorney General, Environment and Natural Resources Division, and should refer to United States, Louisiana Department of Environmental Quality, State of Maryland, and State of Nevada v. ABF Freight System, Inc., D.J. Ref. No. 90-5-1-1-11432. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $22.00 (25 cents per page reproduction cost) payable to the United States Treasury.

Thomas Carroll,
Assistant Section Chief, Environmental Enforcement Section, Environment and Natural Resources Division.

[FR Doc. 2023-06138 Filed 3-23-23; 8:45 am]

BILLING CODE P